DEPARTMENT OF HOMELAND SECURITY

Federal Emergency Management Agency

[Docket ID: FEMA-2007-0008]

National Advisory Council Teleconference Meeting

AGENCY: Federal Emergency Management Agency, DHS.

ACTION: Notice of teleconference meeting.

SUMMARY: The National Advisory Council (NAC) will be holding a teleconference meeting for the purpose of discussing operational guidance for recovery organizations. The teleconference meeting will be open to the public.

DATES: Meeting Date: Monday, December 14, 2009, from approximately 10:45 a.m. to 1 p.m.

Comment Date: Written comments must be received by Thursday, December 3, 2009.

ADDRESSES: The meeting will be held via teleconference only. Members of the public who wish to obtain the listen-only call-in number, access code, and other information for the public teleconference may contact Alyson Price as listed in the FOR FURTHER INFORMATION CONTACT section by Thursday, December 3, 2009. All written comments must be received by Thursday, December 3, 2009. All submission received must include the Docket number FEMA-2007-0008 and may be submitted by any one of the following methods:

Federal Rulemaking Portal: http://www.regulations.gov. Follow the instructions for submitting comments on the Web site.

E-mail: FEMA-RULES@dhs.gov. Include Docket number FEMA-2007-0008 in the subject line of the message.

Facsimile: (703) 483-2999.

Mail: FEMA, Office of Chief Counsel, 500 C Street, SW., Room 840, Washington, DC 20472-3100.

Hand Delivery/Courier: FEMA, Office of Chief Counsel, 500 C Street, SW., Room 840, Washington, DC 20472-3100.

Instructions: All submissions received must include the docket number: FEMA-2007-0008. Comments received will also be posted without alteration at http://www.regulations.gov, including any personal information provided. You may want to read the Privacy Act Notice located on the Privacy and Use Notice link on the Administration Navigation Bar of the Web site http://www.regulations.gov.

Docket: For access to the docket to read documents or comments received by the National Advisory Council, go to http://www.regulations.gov.

FOR FURTHER INFORMATION CONTACT: Alyson Price, Designated Federal Officer, FEMA, 500 C Street, SW., Room 832, Washington, DC 20472-3100, telephone 202-646-3746, fax 202-646-4176, and e-mail FEMA-NAC@dhs.gov. The NAC Web site is located at: http://www.fema.gov/about/nac/.

SUPPLEMENTARY INFORMATION: Notice of this meeting is required under the Federal Advisory Committee Act (FACA), Public Law 92-463, as amended (5 U.S.C. App. 1 et seq.).

The Department of Homeland Security/Federal Emergency Management Agency (DHS/FEMA) and the Department of Housing and Urban Development (HUD) have recently begun work on an initiative to Strengthen Disaster Recovery for the Nation. At the President's request, the Secretaries of Homeland Security and Housing and Urban Development are co-chairing a Long Term Recovery Working Group composed of the Secretaries and Administrators of more than 20 departments, agencies, and offices. This high-level, strategic initiative will provide operational guidance for recovery organizations as well as make suggestions for future improvement. An intensive stakeholder outreach began in November 2009, involving State, local, and Tribal government representatives, as well as a wide array of private organizations and private non-profit organizations, to inform these efforts. As a continuation of the stakeholder engagement effort, FEMA will be conducting a public teleconference with the National Advisory Council to brief them on the discussions that took place with stakeholders in November and to obtain the council's input on disaster recovery management issues and opportunities.

The meeting is open to the public. Although members of the public will not be allowed to comment orally during the meeting, they may file a written statement with the NAC before the date of the meeting. For those wishing to submit written comments, please follow the procedure noted above.

Dated: November 17, 2009.
W. Craig Fugate,
Administrator, Federal Emergency Management Agency.

[FR Doc. E9-28086 Filed 11-20-09; 8:45 am]

BILLING CODE 9111-48-P